DEPARTMENT OF COMMERCE

International Trade Administration

(A-570-815, A-533-806, C-533-807)

Continuation of Antidumping and Countervailing Duty Orders: Sulfanilic Acid from the People's Republic of China and India

AGENCY: Import Administration, International Trade Administration, Department of Commerce.

SUMMARY: As a result of the determinations by the Department of Commerce (the “Department”) and the International Trade Commission (the “ITC”) that revocation of the antidumping duty (“AD”) orders on sulfanilic acid from the People's Republic of China (“PRC”) and India would likely lead to continuation or recurrence of dumping, that revocation of the countervailing duty (“CVD”) order on sulfanilic acid from India would likely lead to continuation or recurrence of a countervailable subsidy, and that revocation of these AD and CVD orders would likely lead to a continuation or recurrence of material injury to an industry in the United States, the Department is publishing this notice of the continuation of these AD and CVD orders.

EFFECTIVE DATE: May 11, 2006.

FOR FURTHER INFORMATION CONTACT: Robert Bolling (PRC Order), Tipten Troidl (Indian AD/CVD Orders), AD/CVD Operations, Import Administration, International Trade Administration, U.S. Department of Commerce, 14th Street & Constitution Avenue NW, Washington, DC 20230; telephone: (202) 482-3434 and (202) 482-1767, respectively.

SUPPLEMENTARY INFORMATION:

Background

On May 2, 2005, the Department initiated and the ITC instituted sunset reviews of the AD and CVD orders on sulfanilic acid from the PRC and India, pursuant to sections 751(c) and 752 of the Tariff Act of 1930, as amended (the “Act”), respectively. See Notice of Initiation of Five-Year (“Sunset”) Reviews, 70 FR 22632 (May 2, 2005). As a result of its reviews, the Department found that revocation of the AD orders would likely lead to continuation or recurrence of dumping and that revocation of the CVD order would likely lead to continuation or recurrence of subsidization, and notified the ITC of the margins of dumping and the subsidy rates likely to prevail were the orders revoked. See Sulfanilic Acid from India and the People's Republic of China; Notice of Final Results of Expedited Sunset Reviews of Antidumping Duty Orders, 70 FR 53164 (September 7, 2005) and Final Results of Expedited Sunset Review of Countervailing Duty Order: Sulfanilic Acid from India, 70 FR 53168 (September 7, 2005) (collectively, “Final Results”).

On April 27, 2006, the ITC determined that revocation of the AD and CVD orders on sulfanilic acid from the PRC and India would likely lead to continuation or recurrence of material injury within a reasonably foreseeable time. See Sulfanilic Acid from China and India, 71 FR 24860 (April 27, 2006) (“ITC Determination”) and USITC Publication 3849 (April 2006), entitled Sulfanilic Acid from China and India (Inv. Nos. 701-TA-318 and 731-TA-538 and 561 (Second Review)).

Scope of the Orders

The merchandise covered by the AD and CVD orders is all grades of sulfanilic acid, which include technical (or crude) sulfanilic acid, refined (or purified) sulfanilic acid and sodium salt of sulfanilic acid (sodium sulfanilate).

Sulfanilic acid is a synthetic organic chemical produced from the direct sulfonation of aniline with sulfuric acid. Sulfanilic acid is used a a raw material in the production of optical brighteners, food colors, specialty dyes, and concrete additive. The principal differences between the grades are the undesirable quantities of residual aniline and alkali insoluble materials present in the sulfanilic acid. All grades are available as dry free flowing powders.

Technical sulfanilic acid contains 96 percent minimum sulfanilic acid, 1.0 percent maximum aniline, and 1.0 percent maximum alkali insoluble materials. Refined sulfanilic acid contains 98 percent minimum sulfanilic acid, 0.5 percent maximum aniline, and 0.25 percent maximum alkali insoluble materials. Sodium salt of sulfanilic acid (sodium sulfanilate) is a granular or crystalline material containing 75 percent minimum sulfanilic acid, 0.5 percent maximum aniline, and 0.25 percent maximum alkali insoluble materials based on the equivalent sulfanilic acid content.

In response to a request from 3V Corporation, on May 5, 1999, the Department clarified that sodium sulfanilate processed in Italy from sulfanilic acid produced in India is within the scope of the AD and CVD orders on sulfanilic acid from India. See Notice of Scope Rulings, 65 FR 41957 (July 7, 2000).

The merchandise is currently classifiable under Harmonized Tariff Schedule of the United States (“HTSUS”) subheadings 2921.42.22 and 2921.42.24.90. Although the HTSUS subheadings are provided for convenience and customs purposes, our written description of the scope of the order is dispositive.

Determination

As a result of the determinations by the Department and the ITC that revocation of these AD and CVD orders would likely lead to continuation or recurrence of dumping or a countervailable subsidy, and of material injury to an industry in the United States, pursuant to section 751(d)(2) of the Act, the Department hereby orders the continuation of the AD and CVD orders on sulfanilic acid from the PRC and India. U.S. Customs and Border Protection will continue to collect cash deposits at the rates in effect at the time of entry for all imports of subject merchandise. The effective date of the continuation of these orders is the date of publication in the Federal Register of this Notice of Continuation.

Pursuant to sections 751(c)(2) and 751(c)(6) of the Act, the Department intends to initiate the next five-year review of these orders not later than April 2011.

These five-year (sunset) reviews and notice are in accordance with section 751(c) of the Act and published pursuant to section 777(i)(1) of the Act.

Dated: May 4, 2006.
David M. Spooner,
Assistant Secretary for Import Administration.

[FR Doc. E6-7228 Filed 5-10-06; 8:45 am]

BILLING CODE 3510-DS-S